DEPARTMENT OF HEALTH AND HUMAN SERVICES

Centers for Disease Control and Prevention

Board of Scientific Counselors, National Center for Environmental Health/Agency for Toxic Substances and Disease Registry (BSC, NCEH/ATSDR)

AGENCY: Centers for Disease Control and Prevention (CDC), Department of Health and Human Services (HHS).

ACTION: Notice of meeting.

SUMMARY: In accordance with the Federal Advisory Committee Act, the Centers for Disease Control and Prevention (CDC), announces the following meeting for the Board of Scientific Counselors, National Center for Environmental Health/Agency for Toxic Substances and Disease Registry (BSC, NCEH/ATSDR). This meeting is open to the public, limited in the room by 60 people and 75 lines over the phone. The public is also welcome to listen to the meeting by 1-888-790-2009, passcode: 7865774, with 75 lines. The deadline for notification of attendance is November 10, 2017. The public comment period is scheduled on Wednesday, November 15, 2017 from 2:00 p.m. until 2:15 p.m.; and from 3:25 p.m. until 3:40 p.m. EST, and on Thursday, November 16, 2017 from 10:10 a.m. until 10:25 a.m. EST. Individuals wishing to make a comment during Public Comment period, please email your name, organization, and phone number by November 6, 2017 to William Cibulas at wic1@cdc.gov.

DATES: The meeting will be held on November 15, 2017, 8:30 a.m. to 4:30 p.m., EST and November 16, 2017, 8:30 a.m. to noon, EST.

ADDRESSES: CDC, 4770 Buford Hwy., Atlanta, Georgia 30341, Building 107, Room 1A or by phone: 1-888-790-2009

FOR FURTHER INFORMATION CONTACT: Shirley Little, Program Analyst, NCEH/ATSDR, CDC, 4770 Buford Hwy., Mail Stop F-45, Atlanta, Georgia 30341, telephone (770) 488-0577; snl7@cdc.gov.

SUPPLEMENTARY INFORMATION:

Purpose: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and wellbeing; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Considered: The agenda will include discussions on NCEH/ATSDR Director Updates; Noise-Induced Hearing Loss; NCEH/ATSDR Program Responses to BSC Guidance and Action Items; CDC's Hurricane Season Response; Lead Poisoning Prevention Program Updates; Flint Registry; Revision of blood lead level reference value (status); Discussion of Legislative Requirements of new Lead Exposure Poisoning Federal Advisory Committee; Amyotrophic Lateral Sclerosis (ALS) Program Update; Environmental Health Tracking Program update; updates from the National Institute of Environmental Health Sciences, the National Institute for Occupational Safety and Health, the U.S. Department of Energy and the U.S. Environmental Protection Agency. Agenda items are subject to change as priorities dictate.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-21422 Filed 10-4-17; 8:45 am]

BILLING CODE 4163-19-P